DEPARTMENT OF HEALTH AND HUMAN SERVICES

Health Resources and Services Administration

Postponement of Meeting of the Advisory Committee on Organ Transplantation

AGENCY: Health Resources and Services Administration, HHS.

ACTION: Notice; postponement.

SUMMARY: A notice announcing the first meeting of the Advisory Committee on Organ Transplantation (ACOT), Department of Health and Human Services (HHS), was published in the Federal Register dated April 12, 2001 (66 FR, page 18962). This meeting, scheduled for May 1-2, 2001, has been postponed.

SUPPLEMENTARY INFORMATION: This notice is to inform the public that the first meeting of the Advisory Committee on Organ Transplantation (ACOT), Department of Health and Human Services (HHS), which was scheduled for May 1-2, 2001, has been postponed. The Secretary of HHS will publish a notice in the Federal Register once the date for the rescheduled ACOT meeting is determined. Individuals with questions should contact the ACOT Executive Director, Ms. Lynn Rothberg Wegman, M.P.A., by telephone at (301)-443-7577, by e-mail at Lwegman@hrsa.gov, or in writing at the Division of Transplantation, Office of Special Programs, Health Resources and Services Administration, Room 7C-22, Parklawn Building, 5600 Fishers Lane, Rockville, MD 20857.

Dated: April 27, 2001.
Elizabeth M. Duke,
Acting Administrator, Health Resources and Services Administration.

[FR Doc. 01-11004 Filed 4-27-01; 3:10 pm]

BILLING CODE 4180-15-P